DEPARTMENT OF THE INTERIOR

National Park Service

[NPS-WASO-NAGPRA-NPS0037598; PPWOCRADN0-PCU00RP14.R50000]

Notice of Intended Repatriation: Boston Children's Museum, Boston, MA

AGENCY: National Park Service, Interior.

ACTION: Notice.

SUMMARY: In accordance with the Native American Graves Protection and Repatriation Act (NAGPRA), Boston Children's Museum intends to repatriate certain cultural items that meet the definition of unassociated funerary objects and objects of cultural patrimony and that have a cultural affiliation with the Indian Tribes or Native Hawaiian organizations in this notice.

DATES: Repatriation of the cultural items in this notice may occur on or after April 19, 2024.

ADDRESSES: Melissa Higgins, Boston Children's Museum, 308 Congress Street, Boston, MA 02210, telephone (617) 986-3692, email Higgins@BostonChildrensMuseum.org.

SUPPLEMENTARY INFORMATION: This notice is published as part of the National Park Service's administrative responsibilities under NAGPRA. The determinations in this notice are the sole responsibility of Boston Children's Museum, and additional information on the determinations in this notice, including the results of consultation, can be found in the summary or related records. The National Park Service is not responsible for the determinations in this notice.

Abstract of Information Available

A total of 19 cultural items have been requested for repatriation. The 16 unassociated funerary objects are one clay vessel, 11 clay sherds, two stone bullets, and two projectile points. The three objects of cultural patrimony are projectile points.

The 16 unassociated funerary objects were accessioned without an accession number or donor listed. They were recorded as “From Creek Indian's grave in North Alabama. Probably placed there in 1800.” The clay vessel (Object ID IA/NN 442) is a small, brownish-grey cup with a slightly curved base (narrower at the base and widens towards the rim). The rim is uneven; lower on one side. The vessel measures 1 ½”x and is about 1 ¾” diameter at the rim. The pottery sherds (Object IDs IA/NN 443 a-j) are a group of 11 sherds in various colors and sizes, potentially from different vessels. The largest sherd is approximately 3 ½”, the smallest sherds are less than 1”. The two stone bullets (Object IDs IA/NN 445 a and b) measure approximately 5/8” each and have slightly pock-marked surfaces. One is more grey in tone, the other is more orange and brown. The stone projectile point (Object ID IA/NN 444 b) is roughly triangular in shape and measures approximately 1 ¾” long and 1 ¼” wide, with a greenish color to the stone and a red tone at the tip of the projectile. The final unassociated funerary object is a projectile point that has had two object IDs (N.Am.I 942 and N.Am.I 444) and is now known as INM 444 S1.

The three additional objects of cultural patrimony (projectile points) were donated by Mr. Charles Floyd in 1939 and have Object ID IA/NN 932. They are described as a set of three stone projectile points from Georgia. Each has an irregular shape and variations in color. One is grey with red veins in the stone. One is quartz-like with an opaque white and yellow surface on one side and grey granules on the opposite side. One is yellow/brown in color and appears to have a broken tip.

Determinations

Boston Children's Museum has determined that:

• The 16 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 19, 2024. If competing requests for repatriation are received, Boston Children's Museum must determine the most appropriate requestor prior to repatriation. Requests for joint repatriation of the cultural items are considered a single request and not competing requests. Boston Children's Museum is responsible for sending a copy of this notice to the Indian Tribes and Native Hawaiian organizations identified in this notice and to any other consulting parties.

Authority: Native American Graves Protection and Repatriation Act, 25 U.S.C. 3004 and the implementing regulations, 43 CFR 10.9.

Dated: March 11, 2024.
Melanie O'Brien,
Manager, National NAGPRA Program.

[FR Doc. 2024-05853 Filed 3-19-24; 8:45 am]

BILLING CODE 4312-52-P